ENVIRONMENTAL PROTECTION AGENCY

40 CFR Parts 60, 61, 62, and 63

[FRL-7513-8]

Change of Address for Submission of Certain Reports; Technical Amendment

AGENCY: Environmental Protection Agency (EPA).

ACTION: Final rule; technical amendment.

SUMMARY: This document announces a technical amendment revising the address for submittal of certain air pollution control documents to EPA Region VII and Iowa and Kansas.

DATES: This document is effective June 17, 2003.

FOR FURTHER INFORMATION CONTACT: Wayne Kaiser, Environmental Protection Agency, Air Planning and Development Branch, 901 North 5th Street, Kansas City, Kansas 66101; (913) 551-7603; or by E-mail at kaiser.wayne@epa.gov.

SUPPLEMENTARY INFORMATION: The EPA is correcting addresses for Region VII and the states of Iowa and Kansas in 40 CFR parts 60, 61, 62, and 63. Certain provisions of these regulations require the submittal of reports, applications, and other documents to the EPA regional office and to the state air agencies. This technical amendment updates and corrects the mailing addresses for Region VII and the states of Iowa and Kansas.

List of Subjects in 40 CFR Parts 60, 61, 62, and 63

Environmental protection, Air pollution control, Reporting and recordkeeping requirements.

Dated: June 8, 2003.
James B. Gulliford,
Regional Administrator, Region 7.

Chapter I, title 40 of the Code of Federal Regulations is amended as follows:

PART 60—[AMENDED]

1. The authority citation for part 60 continues to read as follows:

Authority: 42 U.S.C. 7401 et seq.

Subpart A—General Provisions

2. Section 60.4 is amended by revising the address for Region VII in paragraph (a) and paragraphs (b)(Q) and (b)(R) to read as follows:

§ 60.4 Address.

(a) * * *

Region VII (Iowa, Kansas, Missouri, Nebraska), Director, Air, RCRA, and Toxics Division, U.S. Environmental Protection Agency, 901 N. 5th Street, Kansas City, KS 66101.

* * * * *

(b) * * *

(Q) State of Iowa: Iowa Department of Natural Resources, Environmental Protection Division, Air Quality Bureau, 7900 Hickman Road, Suite 1, Urbandale, IA 50322.

(R) State of Kansas: Kansas Department of Health and Environment, Bureau of Air and Radiation, 1000 S.W. Jackson, Suite 310, Topeka, KS 66612-1366.

* * * * *

PART 61—[AMENDED]

1. The authority citation for part 61 continues to read as follows:

Authority: 42 U.S.C. 7401 et seq.

Subpart A—General Provisions

2. Section 61.04 is amended by revising the address for Region VII in paragraph (a) and paragraphs (b)(Q) and (b)(R) to read as follows:

§ 61.04 Address.

(a) * * *

Region VII (Iowa, Kansas, Missouri, Nebraska), Director, Air, RCRA, and Toxics Division, U.S. Environmental Protection Agency, 901 N. 5th Street, Kansas City, KS 66101.

* * * * *

(b) * * *

(Q) State of Iowa: Iowa Department of Natural Resources, Environmental Protection Division, Air Quality Bureau, 7900 Hickman Road, Suite 1, Urbandale, IA 50322.

(R) State of Kansas: Kansas Department of Health and Environment, Bureau of Air and Radiation, 1000 S.W. Jackson, Suite 310, Topeka, KS 66612-1366.

* * * * *

PART 62—[AMENDED]

1. The authority citation for part 62 continues to read as follows:

Authority: 42 U.S.C. 7401 et seq.

Subpart A—General Provisions

2. Section 62.10 is amended by revising the entry for Region VII to read as follows:

§ 62.10 Submission to Administrator.

* * * * *

Region and juris- diction covered | Address
* * * * *
VII—Iowa, Kansas, Missouri, Nebraska | Air, RCRA, and Toxics Division, 901 N. 5th Street, Kansas City, KS 66101.
* * * * *

PART 63—[AMENDED]

1. The authority citation for part 63 continues to read as follows:

Authority: 42 U.S.C. 7401 et seq.

Subpart A—General Provisions

2. Section 63.13 is amended by revising the address for Region VII in paragraph (a) to read as follows:

§ 63.13 Addresses of State air pollution control agencies and EPA Regional Offices.

(a) * * *

EPA Region VII (Iowa, Kansas, Missouri, Nebraska), Director, Air, RCRA, and Toxics Division, U.S. Environmental Protection Agency, 901 N. 5th Street, Kansas City, KS 66101.

* * * * *

[FR Doc. 03-15257 Filed 6-16-03; 8:45 am]

BILLING CODE 6560-50-P